NATIONAL SCIENCE FOUNDATION

Advisory Committee for Polar Programs; Notice of Meeting

In accordance with Federal Advisory Committee Act (Pub. L. 92-463, as amended), the National Science Foundation announces the following meeting:

Name: Advisory Committee for Polar Programs (1130).

Date and Time: May 9, 2005, 8 a.m. to 5 p.m.; May 10, 2005, 8 a.m. to 3 p.m.

Place: National Science Foundation, 4201 Wilson Boulevard, Stafford I, Room 1235.

Type of Meeting: Open.

Contact Person: Altie Metcalf, Office of Polar Programs (OPP), National Science Foundation, 4201 Wilson Boulevard, Arlington, VA 22230, (703) 292-8030.

Minutes: May be obtained from the contact person list above.

Purpose of Meeting: To advise NSF on the impact of its policies, programs, and activities of the polar research community; to provide advice to the Director of OPP on issues related to long range planning, and to form ad hoc subcommittees to carry out needed studies and tasks.

Agenda: Staff presentations on program updates; discussions on International Polar Year; U.S. Antarctic Program resupply, advance planning, budgets, and commitments; and polar education and outreach.

Dated: April 13, 2005.
Susanne Bolton,
Committee Management Officer.

[FR Doc. 05-7745 Filed 4-18-05; 8:45 am]

BILLING CODE 7555-01-M